FEDERAL RETIREMENT THRIFT INVESTMENT BOARD

Privacy Act of 1974; Systems of Records

AGENCY: Federal Retirement Thrift Investment Board.

ACTION: Notice of alteration to existing system of records.

SUMMARY: The Federal Retirement Thrift Investment Board (Agency) proposes to add email addresses and phone numbers to the categories of records maintained in the system of records called FRTIB-1, Thrift Savings Plan Records. The Agency also proposes to change the system manager for FRTIB-1.

DATES: The alteration will become effective without further notice on May 15, 2014 unless comments received on or before that date result in a contrary determination.

FOR FURTHER INFORMATION CONTACT: Laurissa Stokes at 202-942-1645.

SUPPLEMENTARY INFORMATION: The Agency administers the Thrift Savings Plan (TSP or Plan), which was established by the Federal Employees' Retirement System Act of 1986 (FERSA), Public Law 99-335, 100 Stat. 514. The purpose of the system of records called FRTIB-1, Thrift Saving Plan Records, is to ensure the integrity of the Plan, to record activity concerning the TSP account of each Plan participant, to communicate with the participant, spouse, former spouse, and beneficiary concerning the account, and to make certain that he or she receives a correct payment from the Plan. The Agency proposes to add email addresses and phone numbers to the categories of records maintained in FRTIB-1, and to change the system manager from Chief Financial Officer to the Deputy Chief Technology Officer. Collection and maintenance of email addresses and phone numbers is consistent with the purposes of communicating with TSP participants.

The Agency is publishing this notice pursuant to the Privacy Act of 1974 (5 U.S.C. 552a), as amended. The proposed system reports, as required by 5 U.S.C. 552a(r), of the Privacy Act of 1974, as amended, were submitted to the House Committee on Government Reform, the Senate Committee on Homeland Security and Government Affairs, and the Office of Management and Budget (OMB) pursuant to paragraph 4c of Appendix I to OMB Circular No. A-130, “Federal Agency Responsibilities for Maintaining Records About Individuals,” dated February 8, 1996 (February 20, 1996, 61 FR 6427).

Gregory T. Long,
Executive Director, Federal Retirement Thrift Investment Board.

FRTIB-1

SYSTEM NAME:

Thrift Savings Plan Records.

SYSTEM LOCATION:

These records are located at the office of the entity engaged by the Agency to perform record keeping services for the TSP. The current address for this record keeper is listed at http://www.tsp.gov.

CATEGORIES OF INDIVIDUALS COVERED BY THE SYSTEM:

All participants (which term includes former participants, i.e., participants whose accounts have been closed), as well as spouses, former spouses, and beneficiaries of TSP participants. Participants in the TSP consist of present and former Members of Congress and Federal employees covered by the Federal Employees' Retirement System Act of 1986, (FERSA) as amended, 5 U.S.C. chapter 84; all present and former Members of Congress and Federal employees covered by the Civil Service Retirement System who elect to contribute to the TSP; Supreme Court Justices, Federal judges, and magistrates who elect to contribute; certain union officials, those individuals described in 5 CFR part 1620, and any other individual for whom an account has been established.

CATEGORIES OF RECORDS IN THE SYSTEM:

These records contain the following kinds of information: Records of TSP account activity, including account balances, employee contributions, agency automatic (one percent) and agency matching contributions, earnings, interfund transfers, contribution allocation elections, investment status by fund, loan and withdrawal information, employment status, retirement code and whether employee is vested, error correction information, participant's date of birth, email address, phone number, and designated beneficiary; records of spousal waivers and consents; powers of attorney and conservatorship and guardianship orders; participant's name, current or former employing agency, and servicing payroll and personnel office; records of Social Security number and home address for participants, spouses, former spouses, and beneficiaries and potential beneficiaries; records of bankruptcy actions; information regarding domestic relations court orders to divide the account; child support, child abuse, and alimony orders; information on payments to the participant's spouse, former spouse, or children and their attorneys; information on notices sent to participants, spouses, former spouses, and beneficiaries; and general correspondence.

AUTHORITY FOR MAINTENANCE OF THE SYSTEM:

5 U.S.C. 8474.

PURPOSE(S):

The purpose of this system of records is to ensure the integrity of the Plan, to record activity concerning the TSP account of each Plan participant, to communicate with the participant, spouse, former spouse, and beneficiary concerning the account, and to make certain that he or she receives a correct payment from the Plan.

Routine uses of records maintained in the system, including categories of users and the purposes of such uses:

These records and information in these records may be used:

a. To disclose financial data and addresses to Federal, state, and local governmental tax enforcement agencies so that they may enforce applicable tax laws.

b. To disclose to the designated annuity vendor in order to provide TSP participants who have left Federal service with an annuity.

c. To disclose to sponsors of eligible retirement plans for purposes of transferring the funds in the participant's account to an Individual Retirement Arrangement or into another eligible retirement plan.

d. To disclose to current and former spouses and their attorneys in order to protect spousal rights under FERSA and to receive benefits to which they may be entitled.

e. When a participant to whom a record pertains dies, to disclose the following types of information to any potential beneficiary: Information in the participant's record which could have been properly disclosed to the participant when living (unless doing so would constitute a clearly unwarranted invasion of privacy) and the name and relationship of any other person who claims the benefits or who is entitled to share the benefits payable.

f. When a participant to whom a record pertains dies, to disclose the following types of information to anyone handling the participant's estate: Information in the participant's record which could have been properly disclosed to the participant when living (unless doing so would constitute a clearly unwarranted invasion of privacy), the name and the relationship of any person who claims the benefits or who is entitled to share the benefits payable, and information necessary for the estate's administration (for example, post-death tax reporting).

g. To disclose information to any person who is named by the participant, spouse, former spouse, or beneficiary of the participant in a power of attorney and to any person who is responsible for the care of the participant or the spouse, former spouse, or beneficiary of the participant to whom a record pertains, and who is found by a court to be incompetent or under other legal disability, information necessary to manage the participant's account and to ensure payment of benefits to which the participant, spouse, former spouse or beneficiary of the participant is entitled.

h. To disclose information to a congressional office from the record of a participant or of the spouse, former spouse, or beneficiary of a participant in order for that office to respond to a communication from that person.

i. To disclose to agency payroll or personnel offices in order to calculate benefit projections for individual participants, to calculate error corrections, to reconcile payroll records, and otherwise to ensure the effective operation of the Thrift Savings Plan.

j. To disclose to the Department of the Treasury information necessary to issue checks from accounts of participants in accordance with withdrawal or loan procedures or to make a payment to a spouse, former spouse, child, or his or her attorney, or to a beneficiary.

k. To disclose to the Department of Labor and to private sector audit firms so that they may perform audits as provided for in FERSA.

l. To disclose to the Parent Locator Service of the Department of Health and Human Services, upon its request, the address of a participant, spouse, former spouse, or beneficiary of the participant for the purpose of enforcing child support obligations against that individual.

m. To disclose pertinent information to the appropriate Federal, foreign, state, local, or tribal agency, or to other public authority responsible for investigating, prosecuting, enforcing, or implementing a statute, rule, regulation, or order, upon its request, when presented with an indication that the information is relevant to any enforcement, regulatory, investigative, or prosecutorial responsibility of that agency or authority.

n. To disclose information to the Office of Management and Budget at any stage of the legislative coordination and clearance process in connection with private relief legislation as set forth in OMB Circular No. A-19.

o. To disclose to a Federal agency, in response to its request, the address of a participant, spouse, former spouse, or beneficiary of the participant and any other information the agency needs to contact that individual concerning a possible threat to his or her health or safety.

p. To disclose information to the Department of Justice, where:

(1) The Board or any component of it, or

(2) Any employee of the Board in his or her official capacity, or

(3) Any employee of the Board in his or her individual capacity, where the Department of Justice has agreed to represent the employee; or

(4) The United States (where the Board determines that litigation is likely to affect the agency or any of its components) is a party to litigation or has an interest in such litigation, and the Board determines that use of such records is relevant and necessary to the litigation. However, in each such case, the Board must determine that disclosure of the records to the Department of Justice is a use of the information contained in the records which is compatible with the purpose for which the records were collected.

q. In response to a court subpoena, or to appropriate parties engaged in litigation or preparing for possible litigation. Examples include disclosure to potential witnesses for the purpose of securing their testimony to courts, magistrates, or administrative tribunals, to parties and their attorneys in connection with litigation or settlement of disputes, or to individuals seeking information through established discovery procedures in connection with civil, criminal, or regulatory proceedings.

r. To disclose to contractors and their employees who have been engaged to assist the Board in performing a contract service or agreement, or who have been engaged to perform other activity related to this system of records and who need access to the records in order to perform the activity. Recipients of TSP records are required to comply with the requirements of the Privacy Act.

s. To disclose to personnel from agency personnel/payroll offices or to casualty assistance officers when necessary to assist a beneficiary or potential beneficiary.

t. To disclose to a consumer reporting agency when the Board is trying to collect a debt owed to the Board under the provisions of 5 U.S.C. 3711.

u. To disclose to quality control companies when such companies are verifying documents submitted to lenders in connection with participants' commercial loan applications.

v. To disclose to an official of another Federal agency information needed in the performance of official duties related to reconciling or reconstructing data files, compiling descriptive statistics, and making analytical studies in support of the function for which the records were collected and maintained.

Policies and practices of storing, retrieving, safeguarding, retaining, and disposing of records in the system:

STORAGE:

These records are maintained on electronic or magnetic media, on microfilm, or in folders.

RETRIEVABILITY:

These records are retrieved by SSN and other personal identifiers of the individual to whom they pertain.

SAFEGUARDS:

Hard copy records are kept in metal file cabinets in a secure facility, with access limited to those whose official duties require access. Personnel are screened to prevent unauthorized disclosure. Security mechanisms for automatic data processing prevent unauthorized access to the electronic or magnetic media.

RETENTION AND DISPOSAL:

TSP documents are retained for 99 years. Manual records are disposed of by compacting and burning; data on electronic or magnetic media are obliterated by destruction or reuse, or are returned to the employing agency.

SYSTEM MANAGER(S) AND ADDRESSS:

Deputy Chief Technology Officer for Business Applications, Office of Technology Services, Federal Retirement Thrift Investment Board, 77 K Street NE., Suite 1000 Washington, DC 20002.

REOCRD ACCESS PROCEDURES:

Individuals who want notice of whether this system of records contains information pertaining to them and to obtain access to their records may contact the TSP Service Office or their employing agency, as follows:

a. Participants who are current Federal employees may call or write their employing agency for personnel or payroll records regarding the agency's and the participant's contributions and adjustments to contributions. A request to the employing agency must be made in accordance with that agency's Privacy Act regulations or that agency's procedures. For other information regarding their TSP accounts, participants who are Federal employees may call or write the TSP Service Office.

b. Participants who have separated from Federal employment and spouses, former spouses, and beneficiaries of participants may call or write the TSP Service Office.

Individuals calling or writing the TSP Service Office must furnish the following information for their records to be located and identified:

a. Name, including all former names;

b. Social Security number; and

c. Other information, if necessary. For example, a participant may need to provide the name and address of the agency, department, or office in which he or she is currently or was formerly employed in the Federal service. A spouse, former spouse, or beneficiary of a participant may need to provide information regarding his or her communications with the TSP Service Office or the Board.

Participants may also inquire whether this system contains records about them and access certain records through the account access section of the TSP Web site and the ThriftLine (the TSP's automated telephone system). The TSP Web site is located at www.tsp.gov. To use the TSP ThriftLine, the participant must have a touch-tone telephone and call the following number 1-877-968-3778. Hearing-impaired participants should dial 1-877-847-4385. The following information is available on the TSP Web site and the ThriftLine: Account balance; available loan amount; the status of a monthly withdrawal payment; the current status of a loan or withdrawal application; and an interfund transfer request.

CONTESTING RECORD PROCEDURE:

Individuals who want to amend TSP records about themselves must submit a detailed written explanation as to why information regarding them is inaccurate or incorrect, as follows:

a. Participants who are current Federal employees must write their employing agency to request amendment of personnel records regarding employment status, retirement coverage, vesting code, and TSP service computation date, or payroll records regarding the agency's and the participant's contributions and adjustments to contributions. A request to the employing agency must be made in accordance with that agency's Privacy Act regulations or that agency's procedures. For other information regarding their TSP accounts, participants who are Federal employees must submit a request to the TSP Service Office.

b. Participants who have separated from Federal employment and spouses, former spouses, and beneficiaries of participants must submit a request to the TSP Service Office.

c. Individuals must provide their Social Security number and name, and they may also need to provide other information for their records to be located and identified.

The employing agency or the TSP Service Office will follow the procedures set forth in 5 CFR part 1605, Error Correction Regulations, in responding to requests to correct contribution errors.

RECORD SOURCE CATEGORIES:

The information in this system is obtained from the following sources:

a. The individual to whom the information pertains;

b. Agency payroll and personnel records;

c. Court orders; or

d. Spouses, former spouses, other family members, beneficiaries, legal guardians, and personal representatives (executors, administrators).

[FR Doc. 2014-08398 Filed 4-14-14; 8:45 am]

BILLING CODE 6760-01-P